ENVIRONMENTAL PROTECTION AGENCY

40 CFR Part 52

[CA 241-0244a; FRL-6893-1]

Revisions to the California State Implementation Plan, Antelope Valley Air Pollution Control District

AGENCY: Environmental Protection Agency (EPA).

ACTION: Direct final rule.

SUMMARY: EPA is taking direct final action to approve revisions to the Antelope Valley Air Pollution Control District portion of the California State Implementation Plan (SIP). These revisions concern the recission of rules and associated negative declarations for one volatile organic compound (VOC) source category and one oxides of nitrogen ( NOX) source category for the Antelope Valley Air Pollution Control District (AVAPCD). We are approving these local rule recissions and negative declarations under the Clean Air Act as amended in 1990 (CAA or the Act).

DATES: This rule is effective on January 2, 2001, without further notice, unless EPA receives adverse comments by December 4, 2000. If we receive such comment, we will publish a timely withdrawal in the Federal Register to notify the public that this rule will not take effect.

ADDRESSES: Mail comments to Andy Steckel, Rulemaking Office Chief (AIR-4), U.S. Environmental Protection Agency, Region IX, 75 Hawthorne Street, San Francisco, CA 94105-3901.

You can inspect copies of the submitted SIP revisions and EPA's technical support documents (TSDs) at our Region IX office during normal business hours. You may also see copies of the submitted SIP revisions at the following locations:

Environmental Protection Agency, Air Docket (6102), Ariel Rios Building, 1200 Pennsylvania Avenue, NW., Washington DC 20460.

California Air Resources Board, Stationary Source Division, Rule Evaluation Section, 2020 “L” Street, Sacramento, CA 95812.

Antelope Valley Air Pollution Control District, 43301 Division Street, Suite 206, Lancaster, CA 93539-4409

FOR FURTHER INFORMATION CONTACT: Julie A. Rose, Rulemaking Office (AIR-4), U.S. Environmental Protection Agency, Region IX, (415) 744-1184.

SUPPLEMENTARY INFORMATION: Throughout this document, “we,” “us” and “our” refer to EPA.

Table of Contents

I. The State's Submittal

A. What rules did the State submit?

B. Are there other versions of these rules?

C. What is the purpose of the submitted rules?

II. EPA's Evaluation and Action

A. How is EPA evaluating the rule recissions?

B. Do the rules meet the evaluation criteria?

C. Public comment and final action

III. Background information

Why were these rules submitted initially?

IV. Administrative Requirements

I. The State's Submittal

A. What Rules Did the State Submit?

Table 1 lists the rule recissions and negative declarations we are approving with the dates that they were adopted by the local air agency and submitted by the California Air Resources Board (CARB).

Table 1.—Submitted Rule Recissions and Negative Declarations
Local agency | Rule No. | Rule title | Adopted | Submitted
AVAPCD | 1103 & Negative Declaration | Pharmaceuticals and Cosmetic Manufacturing Operations | 01-18-00 | 03-28-00
AVAPCD | 1159 & Negative Declaration | Nitric Acid Units—Oxides of Nitrogen | 01-18-00 | 03-28-00

On May 19, 2000, these rule submittals were found to meet the completeness criteria in 40 CFR part 51, appendix V, which must be met before formal EPA review.

B. Are There Other Versions of These Rules?

The current versions of Rules 1103 and 1159 were approved in the SIP for the South Coast Air Quality Management District (SCAQMD) on July 2, 1982 and July 12, 1990, respectively. At that time, these rules applied in all of SCAQMD, including the Antelope Valley region of Los Angeles County. ¹ The AVAPCD was created pursuant to California Health and Safety Code (CHSC) section 40106 and assumed all air pollution control responsibilities of the SCAQMD in the Antelope Valley region effective July 1, 1997, including responsibility for implementing Rules 1103 and 1159.

¹ The Antelope Valley region of Los Angeles County is contained within the Federal area known as the southeast Desert Modified Air Quality Management Area and the region identified by the State of California as the Mojave Desert Air Basin.

C. What Is the Purpose of the Submitted Rules?

Rule 1103 establishes limits for VOC emissions produced by Pharmaceuticals and Cosmetics Manufacturing Operations. Rule 1159 establishes limits for oxides of nitrogen ( NOX) emissions produced by Nitric Acid Plants. The recissions and associated negative declarations were submitted because there are no applicable manufacturing or nitric acid facilities within AVAPCD jurisdiction.

II. EPA's Evaluation and Action

A. How Is EPA Evaluating the Rule Recissions?

These SIP revisions must be consistent with Clean Air Act applicable manufacturing or nitric acid facilites within AVAPCD jurisdiction.

II. EPA's Evaluation and Action

A. How Is EPA Evaluating the Rule Recissions?

These SIP revisions must be consistent with Clean Air Act requirements for RACT (see sections 182(a)(A) and 182(F)) and SIP relaxations (see sections 110(l) and 193.) To do so, the submittal should provide reasonable assurance that no sources subject to Rules 1103 or 1159 currently exist or are planned for the AVAPCD.

B. Do the Rules Meet the Evaluation Criteria?

We believe these rule recissions and associated negative declarations are consistent with the relevant policy and guidance regarding RACT and SIP relaxations. The TSD has more information on our evaluation.

C. Public Comment and Final Action

As authorized in section 110(k)(3) of the Act, EPA is fully approving the submitted rule recissions because we believe they fulfill all relevant requirements. We do not think anyone will object to this, so we are finalizing the approval without proposing it in advance. However, in the Proposed Rules section of this Federal Register, we are simultaneously proposing approval of the same submitted rule recissions. If we receive timely adverse comments, the direct final approval will be effective without further notice on January 2, 2001. This will incorporate these rule recissions into the federally enforceable SIP.

III. Background Information

Why Were These Rules Submitted Initially?

VOCs and NOX help produce ground-level ozone and smog, which harm human health and the environment. Section 110(a) of the CAA requires states to submit regulations that control VOC and NOX emissions. Table 2 lists some of the national milestones leading to the submittal of these local agency VOC and NOX rules.

Table 2.—Ozone Nonattainment Milestones
Date | Event
March 3, 1978 | EPA promulgated a list of ozone nonattainment areas under the Clean Air Act as amended in 1977. 43 FR 8964; 40 CFR 81.305.
May 26, 1988 | EPA notified Governors that parts of their SIPs were inadequate to attain and maintain the ozone standard and requested that they correct the deficiencies (EPA's SIP-Call). See section 110(a)(2)(H) of the pre-amended Act.
November 15, 1990 | Clean Air Act Amendments of 1990 were enacted. Public Law 101-549, 104 Stat. 2399, codified at 42 U.S.C. 7401-7671q.
May 15, 1991 | Section 182(a)(2)(A) requires that ozone nonattainment areas correct deficient RACT rules by this date.

IV. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 2, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).).

List of Subjects in 40 CFR Part 52

Environmental protection, Air pollution control, Hydrocarbons, Intergovernmental relations, Oxides of nitrogen, Ozone, Reporting and recordkeeping requirements, Volatile organic compounds.

Dated: October 4, 2000.
Felicia Marcus,
Regional Administrator, Region IX.

Part 52, Chapter I, Title 40 of the Code of Federal Regulations is amended as follows:

PART 52—[AMENDED]

1. The authority citation for Part 52 continues to read as follows:

Authority: 42 U.S.C. 7401 et seq.

Subpart F—California

2. Section 52.220 is amended by adding paragraphs (c)(69)(v) and (c)(168)(i)(H)(3) to read as follows:

§ 52.220 Identification of plan.

* * * * *

(c) * * *

(69) * * *

(v) Previously approved on July 8, 1982 in paragraph (c)(69)(iii) of this section and now deleted without replacement for implementation in the Antelope Valley Air Pollution Control District Rule 1103.

* * * * *

(168) * * *

(i) * * *

(H) * * *

(3) Previously approved on July 12, 1990 in paragraph (i)(H)(1) of this section and now deleted without replacement for implementation in the Antelope Valley Air Pollution Control District Rule 1159.

* * * * *

3. Section 52.222 is amended by adding paragraphs (a)(6)(iv) and (b)(4)(iii) to read as follows:

§ 52.222 Negative declarations.

(a) * * *

(6) * * *

(iv) Pharmaceuticals and Cosmetic Manufacturing Operations submitted on March 28, 2000 and adopted on January 18, 2000.

* * * * *

(b) * * *

(4) * * *

(iii) Nitric Acid Units submitted on March 28, 2000 and adopted on January 18, 2000.

* * * * *

[FR Doc. 00-27659 Filed 11-2-00; 8:45 am]

BILLING CODE 6560-50-U